CIVIL RIGHTS COMMISSION

Notice of Public Meeting of the Arizona Advisory Committee

AGENCY: U.S. Commission on Civil Rights.

ACTION: Announcement of meetings.

SUMMARY: Notice is hereby given, pursuant to the provisions of the rules and regulations of the U.S. Commission on Civil Rights (Commission) and the Federal Advisory Committee Act (FACA) that the Arizona Advisory Committee (Committee) to the Commission will hold a series of meetings via Webex on Tuesday, March 30, Tuesday, April 6, Tuesday, April 13, and Monday, April 19, 2021 at 12:00 p.m. Mountain Time for the purpose of reviewing and discussing the Committee's advisory memorandum on COVID-19 Impacts on Native American Communities.

DATES: The meetings will be held on:

• Tuesday, March 30, 2021 from 12:00 p.m.-1:00 p.m. Mountain Time

• Tuesday, April 6, 2021 from 12:00 p.m.-1:00 p.m. Mountain Time

• Tuesday, April 13, 2021 from 12:00 p.m.-1:00 p.m. Mountain Time

• Monday, April 19, 2021 from 12:00 p.m.-1:00 p.m. Mountain Time

Access Information

Tuesday, March 30th at 12:00 p.m. MT—Register at: https://tinyurl.com/ubf3ch8z

Tuesday, April 6th at 12:00 p.m. MT—Register at: https://tinyurl.com/3qsjsfwm

Tuesday, April 13th at 12:00 p.m. MT—Register at: https://tinyurl.com/1x8koo4j

Monday, April 19th at 12:00 p.m. MT—Register at: https://tinyurl.com/yurmmbd3

FOR FURTHER INFORMATION CONTACT: Brooke Peery, Designated Federal Officer, (DFO) at bpeery@usccr.gov or by phone at (202) 701-1376.

SUPPLEMENTARY INFORMATION: Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012.

Records and documents discussed during the meeting will be available for public viewing prior to and after the meetings at https://www.facadatabase.gov/FACA/FACAPublicViewCommitteeDetails?id=a10t0000001gzl2AAA.

Please click on the “Committee Meetings” tab. Records generated from these meetings may also be inspected and reproduced at the Regional Programs Unit, as they become available, both before and after the meetings. Persons interested in the work of this Committee are directed to the Commission's website, https://www.usccr.gov, or may contact the Regional Programs Unit at the above email or street address.

Agenda

I. Welcome & Roll Call

II. Approval of Minutes

III. Discussion of Advisory Memo Draft

IV. Public Comment

V. Adjournment

Dated: February 10, 2021.
David Mussatt,
Supervisory Chief, Regional Programs Unit.

[FR Doc. 2021-03112 Filed 2-16-21; 8:45 am]

BILLING CODE P